FEDERAL COMMUNICATIONS COMMISSION

47 CFR Part 73

[MB Docket No. 22-112; RM-11919; DA 22-240; FRS 77494]

Television Broadcasting Services Weston, West Virginia

AGENCY: Federal Communications Commission.

ACTION: Proposed rule.

SUMMARY: The Commission has before it a petition for rulemaking filed by Gray Television Licensee, LLC (Petitioner), the licensee of WDTV (CBS), channel 5, Weston, West Virginia. The Petitioner requests the substitution of channel 33 for channel 5 at Weston in the Table of Allotments.

DATES: Comments must be filed on or before April 21, 2022 and reply comments on or before May 6, 2022.

ADDRESSES: Federal Communications Commission, Office of the Secretary, 45 L Street NE, Washington, DC 20554. In addition to filing comments with the FCC, interested parties should serve counsel for the Petitioner as follows: Joan Stewart, Esq., Wiley Rein LLP, 2050 M Street NW, Washington, DC 20036.

FOR FURTHER INFORMATION CONTACT: Joyce Bernstein, Media Bureau, at (202) 418-1647 or Joyce.Bernstein@fcc.gov.

SUPPLEMENTARY INFORMATION: In support, the Petitioner states the proposed channel substitution serves the public interest because it will resolve significant over-the-air reception problems in WDTV's existing service area. The Petitioner further states that the Commission has recognized the deleterious effects manmade noise has on the reception of digital VHF signals, and that the propagation characteristics of these channels allow undesired signals and noise to be receivable at relatively farther distances compared to UHF channels and nearby electrical devices can cause interference. A total of 388,223 persons are predicted to lose service using a contour analysis if the Bureau grants the channel 33 proposal. In evaluating the loss areas, Gray first considered to what extent the loss areas were served by other CBS affiliates, and concluded that all but 4,142 persons would continue to receive CBS service from other stations in the region, as well as continue to be well served by five or more television services.

According to the Petitioner, a terrain-limited analysis using the Commission's TVStudy software demonstrates that only 498 persons would no longer receive CBS network programming, or receive service from five or more full power television services. Gray also took into account its licensed sister station WVFX, which is co-located with WDTV and carries CBS network programing on a multicast channel. In addition, Gray relies on CBS programming carried on commonly owned and operated station WIYE-LD, Parkersburg, West Virginia. We note that while low power television stations are secondary and can be displaced by full power television stations, we believe it is unlikely that WIYE-LD will be displaced, and determined that there are multiple displacement channels available if it was displaced.

This is a synopsis of the Commission's Notice of Proposed Rulemaking, MB Docket No. 22-112; RM-11919; DA 22-240, adopted March 9, 2022, and released March 9, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622(j), amend the Post-Transition Table of DTV Allotments under West Virginia by revising the entry for Weston to read as follows:

§ 73.622 Digital television table of allotments.

* * * * *

(j) * * *

Community | Channel No.
* * * * *
WEST VIRGINIA
* * * * *
Weston | 33
* * * * *

[FR Doc. 2022-05932 Filed 3-21-22; 8:45 am]

BILLING CODE 6712-01-P